DEPARTMENT OF LABOR

Office of the Secretary

Bureau of International Labor Affairs; U.S. National Administrative Office; North American Agreement on Labor Cooperation; Notice of Determination Regarding Review of U.S. Submission #2000-01

AGENCY: Office of the Secretary, Labor.

ACTION: Notice.

SUMMARY: The U.S. National Administrative Office (NAO) gives notice that on September 1, 2000, U.S. Submission #2000-01 was accepted for review. The submission was filed with the NAO on July 3, 2000, by Current and Former Workers at Auto Trim and Custom Trim/Breed Mexicana, the Coalition for Justice in the Maquiladoras, and 22 additional unions and nongovernmental organizations in Canada, Mexico, and the United States. The submission raises concerns about occupational safety and health and compensation in cases of occupational injuries and illnesses at Auto Trim of Mexico in Matamoros, Tamaulipas, and at Custom Trim/Breed Mexicana in Valle Hermoso, Tamaulipas.

Article 16(3) of the North American Agreement on Labor Cooperation (NAALC) provides for the review of labor law matters in Canada and Mexico by the NAO. The objectives of the review of the submission will be to gather information to assist the NAO to better understand and publicly report on the Government of Mexico's compliance with the obligations set forth in the NAALC.

EFFECTIVE DATE: September 1, 2000.

FOR FURTHER INFORMATION CONTACT: Lewis Karesh, Acting Secretary, U.S. National Administrative Office, Department of Labor, 200 Constitution Avenue, NW, Room C-4327, Washington, DC 20210. Telephone: (202) 501-6653 (this is not a toll-free number).

SUPPLEMENTARY INFORMATION: On July 3, 2000, U.S. Submission #2000-01 was filed by Current and Former Workers at Auto Trim and Custom Trim/Breed Mexicana, the Coalition for Justice in the Maquiladoras, and 22 additional unions and nongovernmental organizations in Canada, Mexico, and the United States. The submission raises concerns about occupational safety and health and compensation in cases of occupational injuries and illnesses at Auto Trim of Mexico in Matamoros, Tamaulipas, and at Custom Trim/Breed Mexicana in Valle Hermoso, Tamaulipas.

The submitters allege that workers at both plants suffer illnesses and injuries related to exposure to toxic substances and muscular-skeletal disorders caused by poor ergonomics. The submitters also maintain that illnesses and injuries are often unreported or under-reported and inadequately treated and compensated. The submitters allege that the frequency with which these problems occur is due to the Mexican government's persistent failure to enforce occupational safety and health laws and regulations with regard to the two firms. They assert that the Mexican government is in violation of NAALC Article 3(1)(b) in failing to monitor compliance and investigate suspected violations; Article 3(1)(d) in failing to require record-keeping and reporting; Article 3(1)(g) in failing to initiate proceedings in a timely manner to seek appropriate sanctions or remedies for violation of labor law; Article 4(1) in failing to guarantee an individual's access to relevant tribunals for the enforcement of its labor law; Article 5(1) in failing to ensure that all proceedings for the enforcement of labor law are fair, equitable, and transparent, comply with due process of law, are open to the public, and are not unnecessarily complicated or involve unwarranted delays; Article 7(a) in failing to ensure that public information is available related to its labor law and enforcement and compliance procedures; and Article 7(b) in failing to promote public education regarding its labor law.

In addition, the submitters charge that the Mexican government has shown disregard for the principles set out in the preamble to the NAALC. Paragraph 1 of the preamble, for example, refers to the parties' resolve in enacting NAFTA to protect, enhance, and enforce basic workers' rights. In Paragraph 7, the parties resolve to promote high-skill, high productivity economic development in North America by inter alia, encouraging employers and employees in each country to comply with labor laws and to work together in maintaining a progressive, safe, and healthy working environment.

The procedural guidelines for the NAO, published in the Federal Register on April 7, 1994, 59 FR 16660, specify that, in general, the Secretary of the NAO shall accept a submission for review if it raises issues relevant to labor law matters in Canada or Mexico and if a review would further the objectives of the NAALC.

U.S. Submission #2000-01 relates to labor law matters in Mexico. A review would appear to further the objectives of the NAALC, as set out in Article 1 of the NAALC, among them improving working conditions and living standards in each Party's territory, promoting the set of labor principles, and encouraging publication and exchange of information, data development, and coordination to enhance mutually beneficial understanding of the laws and institutions governing labor in each Party's territory.

Accordingly, this submission has been accepted for review of the allegations raised therein. The NAO's decision is not intended to indicate any determination as to the validity or accuracy of the allegations contained in the submission. The objectives of the review will be to gather information to assist the NAO to better understand and publicly report on the issues of occupational safety and health and compensation in cases of occupational illnesses and injuries raised in the submission, including the Government of Mexico's compliance with the obligations agreed to under Articles 3, 4, 5, and 7 of the NAALC. The review will be completed, and a public report issued, within 120 days, or 180 days if circumstances require an extension of time, as set out in the procedural guidelines of the NAO.

Signed at Washington, D.C. on September 1, 2000.
Lewis Karesh,
Acting Secretary, U.S. National Administrative Office.

[FR Doc. 00-22979 Filed 9-6-00; 8:45 am]

BILLING CODE 4510-28-U